DEPARTMENT OF HOMELAND SECURITY

Coast Guard

[USCG 2003-16327]

Collections of Information Under Review by Office of Management and Budget (OMB): OMB Control Numbers: (1) 1625-0074 (Formerly 2115-0617), (2) 1625-0041 (Formerly 2115-0518), (3) 1625-0064 (Formerly 2115-0589), (4) 1625-0049 (Formerly 2115-0552), and (5) 1625-0007 (Formerly 2115-0016).

AGENCY: Coast Guard, DHS.

ACTION: Request for comments.

SUMMARY: In compliance with the Paperwork Reduction Act of 1995, the Coast Guard intends to seek the approval of OMB for the renewal of five Information Collection Requests (ICRs). The ICRs comprise (1) Direct User Fees for Inspection or Examination of U.S. and Foreign Commercial Vessels, (2) Certificates and Documents for Safety under Various International Agreements, (3) Plan Approval and Records for Rules on Subdivision and Stability, (4) Waterfront Facilities Handling Liquefied Natural Gas and Liquefied Hazardous Gas, and (5) Characteristics of Liquid Chemicals Proposed for Movement in Bulk by Water. Before submitting the ICRs to OMB, the Coast Guard is inviting comments on them as described below.

DATES: Comments must reach the Coast Guard on or before December 29, 2003.

ADDRESSES: To make sure that your comments and related material do not enter the docket [USCG 2003-16327] more than once, please submit them by only one of the following means:

(1) By mail to the Docket Management Facility, U.S. Department of Transportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

(5) Electronically through Federal eRule Portal: http://www.regulations.gov.

The Facility maintains the public docket for this Notice. Comments and material received from the public, as well as documents mentioned in this Notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Andrea M. Jenkins, Program Manager, U.S. Department of Transportation, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see DOT's “Privacy Act” paragraph below.

Submitting comments: If you submit a comment, please include your name and address, identify the docket number for this request for comment [USCG 2003-16327], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. They may lead us to change the estimated “information” burden.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Privacy Act Statement of DOT in the Federal Register published on April 11, 2000 [65 FR 19477], or you may visit http://dms.dot.gov.

Information Collection Requests

1. Title: Direct User Fees for Inspection or Examination of U.S. and Foreign Commercial Vessels.

OMB Control Number: 1625-0074.

Summary: This collection requires the submission of identifying information such as a vessel's name and identification number, and of the owner's choice whether or not to pay fees for future years. A written request to the Coast Guard is necessary.

Need: The Omnibus Reconciliation Act of 1990, which amended 46 U.S.C. 2110, requires the Coast Guard to collect user fees from inspected vessels. To properly collect and manage these fees, the Coast Guard must have current information on identification. This collection helps to ensure that we get that information and manage it efficiently.

Respondents: Owners of vessels.

Frequency: Annually.

Burden: The estimated burden is 3,167 hours a year.

2. Title: Certificates and Documents for Safety under Various International Agreements.

OMB Control Number: 1625-0041.

Summary: The information collected aids in the prevention of pollution from ships. An International Oil Pollution Prevention Certificate and other records enable the Coast Guard to verify ships' compliance with certain international and domestic rules on shipping.

Need: 33 U.S.C. 1901-1911 require that domestic rules implement requirements of MARPOL 73/78.

Respondents: Owners and operators of vessels.

Frequency: On occasion and every five years.

Burden: The estimated burden is 6,616 hours a year.

3. Title: Plan Approval and Records for Rules on Subdivision and Stability, 46 CFR subchapter S.

OMB Control Number: 1625-0064.

Summary: This collection of information requires owners, operators, or masters of certain inspected vessels to obtain or post various documents as part of the Coast Guard's program for safety of commercial vessels.

Need: 46 U.S.C. 3306 authorizes the Coast Guard to prescribe rules for the safety of certain vessels. 46 CFR subchapter S contains the rules regarding subdivision and stability.

Respondents: Owners, operators, or masters of vessels.

Frequency: On occasion.

Burden: The estimated burden is 10,003 hours a year.

4. Title: Waterfront Facilities Handling Liquefied Natural Gas (LNG) and Liquefied Hazardous Gas (LHG).

OMB Control Number: 1625-0049.

Summary: LNG and LHG present a risk to the public when handled at waterfront facilities. These rules should either prevent accidental releases at waterfront facilities or mitigate their results. They are necessary to promote and verify compliance with safety standards.

Need: 33 CFR part 127 prescribes standards for the safe design, construction, equipment, operations, maintenance, personnel training, and fire protection at waterfront facilities handling LNG or LHG.

Respondents: Owners and operators of waterfront facilities that transfer LNG or LHG.

Frequency: On occasion.

Burden: The estimated burden is 3,540 hours a year.

5. Title: Characteristics of Liquid Chemicals Proposed for Movement in Bulk by Water.

OMB Control Number: 1625-0007.

Summary: The Coast Guard requires manufacturers of new chemicals to submit data on new materials. From these data, the Coast Guard determines the appropriate precautions to take.

Need: 46 CFR parts 30 to 40, 151, 153, and 154 govern the transportation of hazardous materials. The chemical industry constantly produces new materials that must move by water. Each of these new materials has unique characteristics that require special attention to their mode of shipment.

Respondents: Manufacturers of chemicals.

Frequency: On occasion.

Burden: The estimated burden is 129 hours a year.

Dated: October 20, 2003.
Dave McLeish,
Acting Assistant Commandant for Command, Control, Communications, Computers and Information Technology.

[FR Doc. 03-27127 Filed 10-27-03; 8:45 am]

BILLING CODE 4910-15-P